DEPARTMENT OF THE INTERIOR

Fish and Wildlife Service

Notice of Availability of a Draft Environmental Impact Statement/Environmental Impact Report and Receipt of an Application for an Incidental Take Permit for the Pacific Gas & Electric Company Operations and Maintenance Habitat Conservation Plan, San Joaquin Valley, CA

AGENCY: Fish and Wildlife Service, Interior.

ACTION: Notice of availability.

SUMMARY: The U.S. Fish and Wildlife Service (Service) announces the availability for public review of the draft Pacific Gas & Electric Company Operations and Maintenance Habitat Conservation Plan (Plan), draft Implementing Agreement (IA), and draft Environmental Impact Statement/Environmental Impact Report (EIS/EIR). This is in response to receipt of an application from Pacific Gas & Electric Company (PG&E) for an incidental take permit (ITP) pursuant to section 10(a)(1)(B) of the Federal Endangered Species Act of 1973, as amended (ESA). The Service is considering issuing a 30-year permit to the applicant for the take of 65 species (Covered Species), incidental to otherwise lawful activities associated with routine operations and maintenance activities and minor construction for PG&E's gas and electrical distribution facilities, and implementation of the Plan. The activities are proposed to occur within a 12.1 million-acre planning area (Covered Area), located in the San Joaquin Valley, California.

We request comments from the public on the permit application and the draft EIS/EIR, both of which are available for review. The permit application includes the proposed Plan and an accompanying draft IA. The Plan describes the proposed action and the measures the applicant will implement to minimize and mitigate take of the proposed Covered Species. To review the documents, see “Availability of Documents” in the SUPPLEMENTARY INFORMATION section.

DATES: Two public meetings will be held on Tuesday, August 2, 2006 from 7 p.m. to 9 p.m., Stockton, CA and Wednesday, August 2, 2006 from 7 p.m. to 9 p.m., Fresno, CA. Written comments should be received on or before September 21, 2006.

ADDRESSES: The meetings locations are: Stockton—San Joaquin County Public Library, Stewart-Hazelton Room, 605 North El Dorado Street, Stockton, CA 95202 and Fresno—Fresno County Public Library, Sarah McCardle Room, 2420 Mariposa Street, Fresno, CA 93721. Send comments by mail or facsimile to: Lori Rinek, Division Chief, Conservation Planning and Recovery, Sacramento Fish and Wildlife Office, 2800 Cottage Way, Room W-2605, Sacramento, California 95825; facsimile 916-414-6713.

FOR FURTHER INFORMATION CONTACT: Lori Rinek, Division Chief, Conservation Planning and Recovery, Sacramento Fish and Wildlife Office, telephone 916-414-6600.

SUPPLEMENTARY INFORMATION:

Availability of Documents

You may obtain copies of these documents for review by contacting Lori Rinek [see FOR FURTHER INFORMATION CONTACT]. Documents also will be available for public review, by appointment, during regular business hours at the Sacramento Fish and Wildlife Office [see ADDRESSES]. These documents are also available on the Sacramento Fish and Wildlife Office's Web site at: http://www.fws.gov/sacramento/. Copies of all documents are also available for viewing at the following public library locations and offices of the County Clerk:

(1) Cesar Chavez Central Library, 605 N. El Dorado Street, Stockton, California.

(2) Modesto Library, 1500 I Street, Modesto, California.

(3) Merced County Library, 2100 O Street, Merced, California.

(4) Central Fresno County Library, 2420 Mariposa, Fresno, California.

(5) Hanford Library (Main Library), 401 North Douty Street, Hanford, California.

(6) Beale Memorial Branch Library, 701 Truxtun Avenue, Bakersfield, California.

(7) Mariposa County Library, 4978 10th Street Mariposa, California.

(8) Madera County Library, 121 North G Street, Madera, California.

(9) Tulare County Library, 200 West Oak Avenue, Visalia, California.

(10) San Joaquin County Clerk, 222 East Weber Avenue #707, Stockton, California.

(11) Stanislaus County Clerk/Recorder, 1201 I Street, Suite 101, Modesto, California.

(12) County Clerk/Recorder, 2222 M Street, Merced, California.

(13) County Clerk/Recorder, 545 J Street, Los Banos, California.

(14) County Clerk, 2221 Kern Street, Fresno, California.

(15) County Clerk, 1400 West Lacey Boulevard, Hanford, California.

(16) County Clerk, 1115 Truxtun Avenue, Bakersfield, California.

(17) County Clerk, 4982 10th Street, Mariposa, California.

(18) County Clerk, 209 West Yosemite Avenue, Madera, California.

(19) Gregory B. Hardcastle, County Assessor/Clerk, Tulare County Civic Center, 221 South Mooney Boulevard, Visalia, California.

Background Information

Section 9 of the ESA (16 U.S.C. 1538) and implementing regulations prohibit the “take” of fish and wildlife species listed as endangered or threatened. The term “take” is defined under the ESA to mean harass, harm, pursue, hunt, shoot, wound, kill, trap, capture, or collect, or to attempt to engage in any such conduct (16 U.S.C. 1532). “Harm” is defined by Service regulation to include significant habitat modification or degradation where it actually kills or injures listed wildlife by significantly impairing essential behavioral patterns, including breeding, feeding, and sheltering (50 CFR 17.3(c)). However, under limited circumstances, the Service may issue permits to authorize “incidental take” of listed species. Incidental take is defined by the ESA as take that is incidental to, and not the purpose of, carrying out an otherwise lawful activity. Regulations governing incidental take permits for threatened and endangered species are found at 50 CFR 17.32 and 17.22, respectively.

Although take of listed plant species is not prohibited under the ESA, and therefore cannot be authorized under an incidental take permit, plant species may be included on a permit in recognition of the conservation benefits provided to them under a habitat conservation plan. The applicant, PG&E, would receive assurances under the Services “No Surprises” regulation 50 CFR 17.22(b)(5) and 17.32(b)(5) for all species included on an ITP.

PG&E seeks a 30-year ITP for covered activities within a proposed 12.1 million-acre planning area, located entirely in the San Joaquin Valley, California. However, the focused area where the majority of impacts are likely to occur is approximately 276,000 acres. Annual species effects are estimated to be approximately 43 acres per year. PG&E has requested a permit for 65 species (Covered Species), 31 of which are currently listed as threatened or endangered under the ESA and 34 that are currently unlisted. Of these 65 species, 23 are animal species and 42 are plant species.

Proposed covered species include 8 wildlife species, currently listed as endangered under the ESA [vernal pool tadpole shrimp (Lepidurus packardi), blunt-nosed leopard lizard (Gambelia sila), Buena Vista Lake shrew (Sorex ornatus relictus), riparian brush rabbit (Sylvilagus bachmani riparius), riparian (San Joaquin Valley) woodrat (Neotoma fuscipes riparia), Tipton kangaroo rat (Dipodomys nitratoides nitratoides), giant kangaroo rat (Dipodomys ingens), San Joaquin kit fox (Vulpes macrotis mutica)], 10 plant species, currently listed as endangered under the ESA [large-flowered fiddleneck (Amsinckia grandiflora), California jewelflower (Caulanthus californicus), palmate-bracted bird's-beak (Cordylanthus palmatus), Kern mallow (Eremalche kernensis), San Joaquin woollythreads (Monolopia [Lembertia] congdonii), Bakersfield cactus (Opuntia basilaris var. treleasei), hairy Orcutt grass (Orcuttia pilosa), Hartweg's golden sunburst (Pseudobahia bahiifolia), Keck's checkerbloom (Sidalcea keckii), and Greene's tuctoria (Tuctoria greenei)], and 7 wildlife species currently listed as threatened under the ESA [vernal pool fairy shrimp (Branchinecta lynchi), Valley elderberry longhorn beetle (Desmocerus californicus dimorphus), California tiger salamander (Ambystoma californiense), California red-legged frog (Rana aurora draytonii), giant garter snake (Thamnophis gigas), golden eagle (Aquila chrysaetos), bald eagle (Haliaeetus leucocephalus)], 7 plant species currently listed as threatened under the ESA [Mariposa pussypaws (Calyptridium pulchellum), succulent owl's-clover (Castilleja campestris ssp. succulenta), Hoover's spurge (Chamaesyce hooveri), Springville clarkia (Clarkia springvillensis), Colusa grass (Neostapfia colusana), San Joaquin Valley Orcutt grass (Orcuttia inaequalis), San Joaquin adobe sunburst (Pseudobahia peirsonii)].

Proposed covered species also include plants and animals that are not listed under the ESA at the current time including 8 wildlife species [midvalley fairy shrimp (Branchinecta mesovallensis), limestone salamander (Hydromantes brunus), Swainson's hawk (Buteo swainsoni), white-tailed kite (Elanus leucurus), Western burrowing owl (Athene cunicularia hypugea), bank swallow (Riparia riparia), tricolored blackbird (Agelaius tricolor), and San Joaquin (Nelson's) antelope squirrel (Ammospermophilus nelsoni)], and 25 plant species [lesser saltscale (Atriplex minuscula), Bakersfield smallscale (Atriplex tularensis), big tarplant (Blepharizonia plumose ssp. plumosa), tree-anemone (Carpenteria californica), slough thistle (Cirsium crassicaule), Mariposa clarkia (Clarkia biloba ssp. australis), Merced clarkia (Clarkia lingulata), Vasek's clarkia (Clarkia tembloriensis ssp. calientensis), hispid bird's-beak (Cordylanthus mollis ssp. hispidus), Congdon's woolly sunflower (Eriophyllum congdonii), Delta button-celery (Eryngium racemosum), striped adobe lily (Fritillaria striata), Boggs Lake hedge-hyssop (Gratiola heterosepala), pale-yellow layia (Layia heterotricha), Comanche Point layia (Layia leucopappa), legenere (Legenere limosa), Panoche peppergrass (Lepidium jaredii ssp. album), Congdon's lewisia (Lewisia congdonii), Mason's lilaeopsis (Lilaeopsis masonii), Mariposa lupine (Lupinus citrinus var. deflexus), showy madia (Madia radiata), Hall's bush mallow (Malacothamnus hallii), pincushion navarretia (Navarretia myersii ssp. myersii), oil neststraw (Stylocline citroleum), Kings gold (Twisselmannia californica).

If the proposed Plan is approved and the permit issued, take authorization for listed covered wildlife species would be effective at the time of permit issuance. Take of the unlisted covered wildlife species would be authorized concurrent with the species' listing under the ESA, should they be listed during the duration of the ITP.

The proposed Plan is intended to be a comprehensive document, providing for regional species conservation and habitat planning, while allowing PG&E to better manage routine operations and maintenance activities and minor construction for PG&E's gas and electrical transmission and distribution facilities. The proposed Plan is also intended to provide a coordinated process for permitting and mitigating the take of Covered Species as an alternative to the current project-by-project approach.

In order to comply with the requirements of the ESA, the proposed Plan addresses a number of required elements, including: goals and objectives; evaluation of the effects of covered activities on Covered Species, including indirect and cumulative effects; a conservation strategy; a monitoring and adaptive management program; descriptions of changed circumstances and remedial measures; identification of funding sources; and an assessment of alternatives to take of listed species.

Covered Activities would include routine operations and maintenance activities and minor construction for PG&E's gas and electrical transmission and distribution facilities and preserve management.

The Plan includes measures to avoid and minimize incidental take of the Covered Species. A monitoring and reporting plan would gauge the Plan's success based on achievement of biological goals and objectives. The Plan's adaptive management program allows for changes in the conservation program if the biological species objectives are not met, or new information becomes available to improve the efficacy of the Plan's conservation strategy.

The conservation strategy was designed to minimize and mitigate the impacts of covered activities, contribute to the recovery of listed Covered Species, and protect and enhance populations of unlisted Covered Species, as proposed. The proposed Plan's conservation strategy uses three mechanisms to address the potential effects of operation and maintenance activities on species covered by the Plan and their habitat: Avoidance and minimization measures, surveys to assess potential impacts on particular species, when warranted; and compensation for impacts that cannot be avoided. Pre-activity surveys will be conducted before any activity begins that has the potential to disturb 0.1 acre or more of habitat in an area of natural vegetation. Pre-activity surveys will be conducted for activities with the potential to disturb 0.1 acre or less of natural habitat when they occur in wetlands, vernal pools, or other areas of known sensitivity, including designated occupied habitat, or when Covered Species are known to be present. Where impacts cannot be avoided, the Plan provides a systematic process for compensation of temporary and permanent losses. All permanent losses of habitat suitable, for one or more of the Covered Species, will be compensated at a 3:1 ratio (3 acres created, restored, or conserved for every acre lost), and temporary losses of suitable habitat will be compensated at a ratio of 0.5:1. Permanent and temporary loss of wetlands, including vernal pools, will be compensated at a 3:1 ratio using existing mitigation banks. Compensation lands must offer habitat characteristics similar to those of the lands disturbed or lost. Several approaches may be used to provide appropriate compensation lands: Purchase of conservation lands, purchase of mitigation credits from existing mitigation banks, establishment of conservation easements on lands currently in PG&E ownership, and purchase of conservation easements on non-PG&E lands. Compensation will be proposed in advance by PG&E and approved by the Service and the California Department of Fish and Game (CDFG) in 5-year increments to ensure timely and continuous compensation.

National Environmental Policy Act Compliance

The proposed issuance of an ITP triggers the need for compliance with the National Environmental Policy Act (NEPA) and the California Environmental Quality Act (CEQA). Accordingly, a joint NEPA/CEQA document has been prepared. The Service is the Lead Agency responsible for compliance under NEPA, and the CDFG is the Lead Agency with responsibility for compliance with CEQA. As NEPA lead agency, the Service is providing notice of the availability of the draft EIS/EIR, which evaluates the impacts of proposed issuance of the permit and implementation of the Plan, as well as a reasonable range of alternatives.

The Service formally initiated the environmental review of the project through publication of a Notice of Intent to prepare a draft EIS/EIR and held a public scoping meeting which was published in the Federal Register on March 25, 2004 (69 FR 15363).

The draft EIS/EIR analyzes three alternatives in addition to the proposed Plan. Each alternative would include the same federal components as the proposed Plan (i.e., approval of the Plan, IA, and issuance of an ITP). The conservation strategy of all three alternatives would incorporate avoidance and minimization measures, pre-activity surveys, and compensation for impacts that cannot be avoided. The alternatives and the proposed Plan differ in the details of their conservation strategies. The three alternatives are described below.

Alternative 1 (Plan with Reduced Take) would require a more comprehensive implementation of avoidance and minimization measures than the proposed Plan. Specifically, under Alternative 1, avoidance and minimization measures would be implemented for all activities, including all small disturbance activities. These additional requirements would reduce take below the level anticipated under the proposed Plan. Compensation ratios for habitat loss or disturbance would be the same as those for the proposed Plan.

Alternative 2 (Plan with Enhanced Compensation) would provide enhanced compensation for impacts that cannot be avoided. Under Alternative 2, both permanent and temporary losses of suitable habitat would be compensated at a 3:1 ratio. Loss of wetlands, including vernal pools, would be compensated at a 3:1 ratio if compensation is accomplished through an existing mitigation bank, and at a 6:1 ratio if compensation takes place outside existing banks. Avoidance, minimization measures, and thresholds for implementation of avoidance and minimization measures would be the same as those for the proposed Plan.

Alternative 3 (Plan with Reduced Number of Covered Species) would cover fewer species than the proposed Plan. The following species covered under the proposed Plan would not be covered under Alternative 3: the vernal pool crustaceans, limestone salamander, California red-legged frog, giant garter snake, bank swallow, tricolored blackbird, Buena Vista Lake shrew, riparian brush rabbit, riparian woodrat, Tipton kangaroo rat, and 11 plant species. This alternative would focus on those species that are currently Federal or State listed and have been identified as having more than 2 acres of habitat likely to be disturbed by operations or maintenance activities each year. Avoidance and minimization measures, thresholds for implementation of avoidance and minimization measures, and habitat compensation would be the same as the proposed Plan.

Under the No-Action/No-Project alternative, the proposed Plan would not be adopted, and a permit pursuant to section 10(a)(1)(B) of the ESA would not be issued by the Service. Compliance with the ESA would continue to be addressed on a case-by-case basis.

Public Comments

The Service and PG&E invite the public to comment on the draft Plan, draft EIS/EIR, and draft IA during a 90-day public comment period beginning on the date of this notice. The comment period is opened for 90 days to eliminate the need for an extension subsequent to the close of the comment period. All comments received, including names and addresses, will become part of the administrative record and may be made available to the public.

The Service will evaluate the application, associated documents, and comments submitted thereon to prepare the Final EIS/EIR, HCP and IA. A permit decision will be made no sooner than 30 days after the publication of the final EIS/EIR and completion of the Record of Decision.

This notice is provided pursuant to section 10(a) of the ESA and Service regulations for implementing NEPA, as amended (40 CFR 1506.6). We provide this notice in order to allow the public, agencies, or other organizations to review and comment on these documents.

Dated: June 16, 2006.
Douglas Vandegraft,
Acting Deputy Manager, California/Nevada Operations Office, Sacramento, California.

[FR Doc. E6-9847 Filed 6-22-06; 8:45 am]

BILLING CODE 4310-55-P